DEPARTMENT OF HOMELAND SECURITY

Federal Emergency Management Agency

[Docket ID FEMA-2021-0002; Internal Agency Docket No. FEMA-B-2061]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 12, 2021.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2061, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Anderson County, Kansas and Incorporated Areas
Project: 19-07-0035S Preliminary Date: April 28, 2020
City of Colony | City Hall, 339 Cherry Street, Colony, KS 66015.
City of Garnett | City Hall, 131 West 5th Avenue, Garnett, KS 66032.
City of Greeley | City Hall, 112 West Brown Avenue, Greeley, KS 66033.
City of Kincaid | City Hall, 500 5th Avenue, Kincaid, KS 66039.
City of Lone Elm | Lone Elm City Hall, 303 2nd Street, Kincaid, KS 66039.
City of Westphalia | Anderson County Courthouse, 100 East 4th Avenue, Garnett, KS 66032.
Unincorporated Areas of Anderson County | Anderson County Courthouse, 100 East 4th Avenue, Garnett, KS 66032.
Chase County, Kansas and Incorporated Areas
Project: 19-07-0041S Preliminary Date: April 24, 2020
City of Cedar Point | City Hall, 127 Cedar Street, Cedar Point, KS 66843.
City of Cottonwood Falls | City Hall, 220 Broadway, Cottonwood Falls, KS 66845.
City of Elmdale | Chase County Courthouse, 300 Pearl Street, Cottonwood Falls, KS 66845.
City of Matfield Green | Chase County Courthouse, 300 Pearl Street, Cottonwood Falls, KS 66845.
City of Strong City | City Hall, 204 West Topeka Avenue, Strong City, KS 66869.
Unincorporated Areas of Chase County | Chase County Courthouse, 300 Pearl Street, Cottonwood Falls, KS 66845.
Coffey County, Kansas and Incorporated Areas
Project: 19-07-0037S Preliminary Date: April 10, 2020
City of Burlington | City Hall, 1013 North 4th Street, Burlington, KS 66839.
City of Gridley | City Hall, 503 Main Street, Gridley, KS 66852.
City of Lebo | City Hall, 9 East 4th Street, Lebo, KS 66856.
City of LeRoy | City Hall, 713 South Main Street, LeRoy, KS 66857.
City of Waverly | City Hall, 210 Pearson Avenue, Waverly, KS 66871.
Unincorporated Areas of Coffey County | Coffey County Courthouse, 110 South 6th Street, Burlington, KS 66839.
Douglas County, Kansas and Incorporated Areas
Project: 19-07-0033S Preliminary Date: May 28, 2020
City of Baldwin City | City Hall, 803 8th Street, Baldwin City, KS 66006.
Unincorporated Areas of Douglas County | Douglas County Courthouse, 1100 Massachusetts Street, Lawrence, KS 66044.

[FR Doc. 2021-00398 Filed 1-11-21; 8:45 am]

BILLING CODE 9110-12-P